DEPARTMENT OF COMMERCE

National Oceanic and Atmospheric Administration

50 CFR Part 660

[Docket No. 061113298-6298-01; I.D. 110106A]

RIN 0648-AU91

Fisheries Off West Coast States; Highly Migratory Species Fisheries

AGENCY: National Marine Fisheries Service (NMFS), National Oceanic and Atmospheric Administration (NOAA), Commerce.

ACTION: Proposed rule; request for comments.

SUMMARY: NMFS proposes to revise the method for renewing and replacing permits issued under the Fishery Management Plan(FMP) for U.S. West Coast Fisheries for Highly Migratory Species (HMS). Permits are required for all commercial vessels and all recreational charter vessels participating in HMS fisheries managed under the FMP. NMFS proposes to modify the renewal process by substituting the month corresponding to the vessel identification number with the last day of the vessel owner's birth month as the renewal date. NMFS also proposes to require that vessel owners who want a duplicate permit submit a completed application form to NMFS. These proposed regulations are needed to improve the efficiency and timeliness of the permit system.

DATES: Comments must be received by 5 p.m. Pacific Standard Time January 8, 2006.

ADDRESSES: You may submit comments on this proposed rule identified by [I. D. 110106A] by any of the following methods:

• E-mail: 0648-AU91.swr@noaa.gov. Include [I.D. 110106A] in the subject line of the message.

• Federal eRulemaking Portal: http://www.regulations.gov. Follow the instructions for submitting comments.

• Fax: 562-980-4047, Attn. Mark Helvey.

• Mail to: Rodney R. McInnis, Regional Administrator, Southwest Region, NMFS, 501 West Ocean Boulevard, Suite 4200, Long Beach, CA 90802.

• Written comments regarding the burden-hour estimates or other aspects of the collection-of-information requirements contained in this proposed rule may be submitted to Mark Helvey, Sustainable Fisheries Division (SFD) Southwest Region, NMFS, 501 West Ocean Boulevard, Suite 4200, Long Beach, CA 90802 and by e-mail to David_Rostker@omb.eop.gov, or fax to (202) 395-7285.

FOR FURTHER INFORMATION CONTACT: Mark Helvey, NMFS, Southwest Region, SFD, (562) 980-4040.

SUPPLEMENTARY INFORMATION: These proposed regulations would modify the process NMFS uses to renew and replace permits in the U. S. West Coast HMS fisheries managed under the HMS FMP. The FMP was prepared by the Pacific Fishery Management Council and was implemented through regulations at 50 CFR part 660 under authority of the Magnuson-Stevens Fishery Conservation and Management Act (Magnuson-Stevens Act), 16 U.S.C. 1801 et seq.

Background

NMFS requires a permit for all commercial vessels and all recreational charter vessels that fish for HMS in the U.S. exclusive economic zone (EEZ) off the States of California, Oregon, and Washington, or land or transship HMS shoreward of the outer boundary of the U.S. EEZ off the States of California, Oregon, and Washington. The purpose of the HMS permit is to identify vessels in the HMS fisheries so that NMFS knows those participants who need to be contacted when management information is required and who to notify when potential management actions affecting the fisheries are being considered.

The requirement for a permit was established by final rule implementing the approved portions of the FMP for HMS published on April 7, 2004 (69 FR 18444). These permits were initially issued in 2005 after publishing a Federal Register notice on February 10, 2005 (70 FR 7022), that announced approval by the Office of Management and Budget of the collection-of-information components of the permit system.

Permit Renewal

Permits are issued to the managing owner of a specific vessel for a 2-year term. The initial issuance of HMS permits began in 2005 and these permits will expire beginning in 2007. NMFS initially developed a permit term renewal process intentionally staggered so that there will be less likelihood of an excessive number of renewals at any one time of the year. NMFS used the last day of the month designated by the last digit of the vessel identification number as determining the renewal date for expiring permits (e.g., if the vessel identification number ends in 3, the renewal date is March 31, 2 years later). This procedure extends the renewal process over a 10-month term: January through October.

Based on the high number of permits in effect, NMFS proposes to modify this process by using the last day of the managing vessel owner's birth month as the renewal date. The managing vessel owner's date of birth is required in the Pacific HMS Vessel Permit Application and is currently contained in the Pacific HMS Vessel Permit database. NMFS believes that staggering the renewal process over 12 months rather than 10 months will improve the efficiency of the permit renewal process. This first renewal date under the new system would be the last day of the vessel owner's birthday month in the second calender year after the permit is issued. NMFS anticipates that the system presented in this proposed rule should result in delivery of permits to vessel operators in a more efficient manner. This proposed rule does not require any new information to be provided by the applicant. A Southwest Region Pacific HMS Vessel Permit Application form may still be obtained from the SFD (see ADDRESSES) or downloaded from the Southwest Region home page (http://swr.nmfs.noaa.gov/permits.htm) to apply for a permit under this section. A completed application is one that contains all the required information and signatures.

Replacement Permits

Replacement permits are issued by NMFS to vessel owners to replace lost or mutilated permits. Vessel owners with a lost or mutilated permit primarily notify NMFS by telephone when requesting a replacement permit. NMFS has never established a formal process to provide replacement permits, but the number of requests for replacements over the past year make it clear that such a process is required. NMFS proposes that vessel owners requiring a replacement permit submit a new completed application form to NMFS by mail or fax (see ADDRESSES).

Classification

This proposed rule revises procedures for renewing and replacing permits issued under regulations implementing the HMS FMP published in 69 FR 18444 on April 7, 2004. The Regional Administrator, NMFS Southwest Region, determined that this proposed rule is consistent with the Magnuson-Stevens Fishery Conservation and Management Act, codified at 16 U.S.C. 1801 et seq.

This proposed rule has been determined to be not significant for the purposes of Executive Order (E.O.) 12866.

The Chief Counsel for Regulation of the Department of Commerce certified to the Chief Counsel for Advocacy of the Small Business Administration that this proposed rule, if adopted, would not have a significant economic impact on a substantial number of small entities as follows:

Based on the high number of permits in effect, NMFS proposes to modify this process by using the last day of the managing vessel owner's birth month as the renewal date. The managing vessel owner's date of birth is required in the Pacific HMS Vessel Permit Application (application) and is currently contained in the Pacific HMS Vessel Permit database. Staggering renewals over 12 months rather than 10 months is expected to maximize the efficiency of the permit renewal process. This proposed rule does not require any new information to be provided by the applicant or impose any substantive costs.

Replacement permits are issued by NMFS to vessel owners to replace lost or mutilated permits. Vessel owners with a lost or mutilated permit primarily notify NMFS by telephone when requesting a replacement permit. NMFS has never established a formal process to provide replacement permits, but the number of requests for replacements over the past year (approximately 50) make it clear that such a process is required. NMFS proposes that vessel owners requiring a replacement permit submit a completed application form to NMFS by mail or fax. The estimated reporting burden to prepare the single page, application averages 0.42 hours per vessel, including the time for reviewing instructions, searching existing data sources, gathering and maintaining the data needed, and completing and reviewing the collection of information NMFS recognizes that the duration of time between the initial application and completing a second one to obtain a replacement permit dictates the reporting burden and certainly the longer the time span between the two, the closer the applicant would come to the 0.42 hour estimate. NMFS has also estimated that of the 1800 permits issued since April, 2005, approximately 50 were replaced in 2006 creating an annualized burden of 21 hours. The permits are currently free and the only cost (other than time) would be that of submitting the application (e.g., up to 39 cents postage).

The revised method for renewing permits will not place any new or additional burdens on HMS vessel owners. For replacing permits, HMS vessel owners will need to take the time to complete a second application form and mail or fax it to NMFS. NMFS also does not anticipate a drop in profitability based on this rule, as it should not have an affect on a vessel owner's ability to harvest HMS. Therefore, the proposed action, if implemented, will not have a significant impact on a substantial number of small entities.

A fishing vessel is considered a “small” business by the U.S. Small Business Administration (SBA) if its annual receipts not in excess of $3.5 million. Since all of the vessels fishing for West Coast HMS have annual receipts below $3.5 million they would all be considered small businesses under the SBA standards. Therefore this rule will not create disproportionate costs between small and large vessels/businesses.

Based on the analysis above, the Department of Commerce has determined that there will not be a significant economic impact to a substantial number of these small entities. Therefore, NMFS did not prepare an Initial Regulatory Flexibility Analysis.

As a result, a regulatory flexibility analysis is not required and none has been prepared.

This proposed rule for permit renewals references a collection-of-information requirement subject to the Paperwork Reduction Act (PRA) that was approved by OMB under control number 0648-0204. Public reporting burden for preparing a HMS Vessel Permit Application is estimated to average 0.42 hours per vessel, including the time for reviewing instructions, searching existing data sources, gathering and maintaining the data needed, and completing and reviewing the collection of information. Send comments regarding this burden estimate, or any other aspect of this data collection, including suggestions for reducing the burden, to NMFS (see ADDRESSEES) and by e-mail to David_Rostker@omb.eop.gov, or fax to (202) 395-7285.

Notwithstanding any other provision of the law, no person is required to respond to, nor shall any person be subject to a penalty for failure to comply with, a collection of information subject to the requirements of the PRA, unless that collection of information displays a currently valid OMB Control Number.

List of Subjects in 50 CFR Part 660

Administrative practice and procedure, Permits.

Dated: November 30, 2006.
Samuel D. Rauch III,
Deputy Assistant Administrator for Regulatory Programs, National Marine Fisheries Service.

For the reasons set out in the preamble, NMFS proposes to amend 50 CFR part 660 as follows:

PART 660—FISHERIES OFF WEST COAST STATES

1. The authority citation for part 660 continues to read as follows:

Authority: 16 U.S.C. 1801 et seq.

2. In § 660.707, paragraphs (b)(4) and (b)(5)are revised to read as follows:

§ 660.707 Permits.

(b) * * *

(4) Permits issued under this subpart will remain valid until the first date of renewal, and permits may be subsequently be renewed for 2-year terms. The first date of renewal will be the last day of the owner's birth month in the second calendar year after the permit is issued (e.g., if the birth month is March and the permit is issued on October 3, 2007, the permit will remain valid through March 31, 2009).

(5) Replacement permits may be issued without charge to replace lost or mutilated permits. Replacement permits may be obtained by submitting to the SFD c/o the Regional Administrator a complete, signed vessel permit application. An application for a replacement permit is not considered a new application.

* * * * *

[FR Doc. E6-20721 Filed 12-6-06; 8:45 am]

BILLING CODE 3510-22-S